DEPARTMENT OF DEFENSE

Office of the Secretary

Renewal of Department of Defense Federal Advisory Committees

AGENCY: Department of Defense (DoD).

ACTION: Renewal of Federal Advisory Committee.

SUMMARY: The Department of Defense is publishing this notice to announce that it is renewing the charter for the Defense Advisory Committee on Women in the Services (“the Committee”).

FOR FURTHER INFORMATION CONTACT: Jim Freeman, Advisory Committee Management Officer for the Department of Defense, 703-692-5952.

SUPPLEMENTARY INFORMATION: This committee's charter is being renewed under the provisions of the Federal Advisory Committee Act of 1972 (5 U.S.C. Appendix, as amended), the Government in the Sunshine Act of 1976 (5 U.S.C. 552b) (“the Sunshine Act”), and 41 CFR 102-3.50(d).

The Committee is a discretionary Federal advisory committee that shall provide the Secretary of Defense, through the Under Secretary of Defense for Personnel and Readiness (USD(P&R)), independent advice and recommendations on matters and policies relating to women in the Armed Forces of the United States.

The Committee shall report to the Secretary of Defense and the Deputy Secretary of Defense through the USD(P&R). The USD(P&R) may act upon the Committee's advice and recommendations.

The DoD, through the Office of the USD(P&R), shall provide support, as deemed necessary, for the Committee's performance and functions, and shall ensure compliance with the requirements of the FACA, the Sunshine Act, governing Federal statutes and regulations, and established DoD policies and procedures.

The Committee shall be comprised of no more than 20 members who are appointed by the Secretary or the Deputy Secretary of Defense and who have experience with the military or with women's workforce issues. The Secretary or Deputy Secretary of Defense shall select and appoint the Committee's chair from the total membership. All Committee member appointments must be renewed by the Secretary or Deputy Secretary of Defense on an annual basis.

The Secretary or Deputy Secretary of Defense may appoint the Director of the Center for Women Veterans for the Department of Veterans Affairs to serve as a non-voting ex-officio regular government employee (RGE) member, who participates in the Committee's deliberations. If appointed, he or she will not count toward the Committee's total membership or to determine whether a quorum exists.

The Under Secretary may request the appointment of additional experts and consultants to advise the Committee as subject matter experts. If approved by the Secretary of Defense, these experts and consultants, appointed under the authority of 5 U.S.C. 3109, shall have no voting rights on the Committee or its subcommittees, shall not count toward the Committee's total membership, and shall not engage in Committee deliberations.

Committee members appointed by the Secretary of Defense or the Deputy Secretary of Defense, who are not full-time or permanent part-time federal employees, shall be appointed as experts and consultants under the authority of 5 U.S.C. 3109 to serve as special government employee (SGE) members. Committee members appointed by the Secretary of Defense, who are full-time or permanent part-time Federal employees, shall serve as RGE members. Committee members shall serve a term of service of one-to-four years on the Committee. No member may serve more than two consecutive terms of service without Secretary or Deputy Secretary of Defense approval. This same term of service limitation also applies to any DoD authorized subcommittees.

All Committee members will be reimbursed for travel and per diem as it pertains to official business of the Committee. Committee members, who are appointed by the Secretary or Deputy Secretary of Defense as SGE members, will serve without compensation.

DoD, when necessary and consistent with the Committee's mission and DoD policies and procedures, may establish subcommittees, task forces, or working groups to support the Committee. Establishment of subcommittees will be based upon a written determination, to include terms of reference, by the Secretary of Defense, the Deputy Secretary of Defense, or the USD(P&R), as the DoD Sponsor.

Such subcommittees shall not work independently of the Committee and shall report all of their recommendations and advice solely to the Committee for full and open deliberation and discussion. Subcommittees, task forces, or working groups have no authority to make decisions and recommendations, verbally or in writing, on behalf of the Committee. No subcommittee or any of its members can update or report, verbally or in writing, on behalf of the Committee, directly to the DoD or any Federal officer or employee.

The Secretary of Defense or the Deputy Secretary of Defense will appoint subcommittee members to a term of service of one-to-four years, even if the member in question is already a member of the Committee. Subcommittee members shall not serve more than two consecutive terms of service unless authorized by the Secretary of Defense or the Deputy Secretary of Defense.

Subcommittee members, if not full-time or permanent part-time Federal employees, will be appointed as experts and consultants, under the authority of 5 U.S.C. 3109, to serve as SGE members, whose appointments must be renewed on an annual basis. Subcommittee members appointed by the Secretary of Defense, who are full-time or permanent part-time Federal employees, shall serve as RGE members. With the exception of reimbursement of official travel and per diem related to the Committee or its subcommittees, subcommittee members shall serve without compensation.

All subcommittees operate under the provisions of FACA, the Sunshine Act, governing Federal statutes and regulations, and established DoD policies and procedures.

The estimated number of Committee meetings is four per year.

The Committee's DFO shall be a full-time or permanent part-time DoD employee and shall be appointed in accordance with established DoD policies and procedures.

The Committee's DFO is required to be in attendance at all meetings of the Committee and its subcommittees for the entire duration of each and every meeting. However, in the absence of the Committee's DFO, a properly approved Alternate DFO, duly appointed to the Committee according to established DoD policies and procedures, shall attend the entire duration of all meetings of the Committee and its subcommittees.

The DFO, or the Alternate DFO, shall call all of the Committee and its subcommittees; prepare and approve all meeting agendas; and adjourn any meeting, when the DFO, or the Alternate DFO, determines adjournment to be in the public interest or required by governing regulations or DoD policies and procedures; and chair meetings when directed to do so by the USD(P&R). Pursuant to 41 CFR 102-3.105(j) and 102-3.140, the public or interested organizations may submit written statements to Defense Advisory Committee on Women in the Services membership about the Committee's mission and functions. Written statements may be submitted at any time or in response to the stated agenda of planned meeting of Defense Advisory Committee on Women in the Services.

All written statements shall be submitted to the DFO for the Defense Advisory Committee on Women in the Services, and this individual will ensure that the written statements are provided to the membership for their consideration. Contact information for the Defense Advisory Committee on Women in the Services DFO can be obtained from the GSA's FACA Database— http://www.facadatabase.gov/.

The DFO, pursuant to 41 CFR 102-3.150, will announce planned meetings of the Defense Advisory Committee on Women in the Services. The DFO, at that time, may provide additional guidance on the submission of written statements that are in response to the stated agenda for the planned meeting in question.

Dated: April 14, 2014.
Aaron Siegel,
Alternate OSD Federal Register Liaison Officer, Department of Defense.

[FR Doc. 2014-08766 Filed 4-16-14; 8:45 am]

BILLING CODE 5001-06-P